COMMODITY FUTURES TRADING COMMISSION

17 CFR Parts 1 and 155

RIN 3038-AC16

Distribution of “Risk Disclosure Statement” by Futures Commission Merchants and Introducing Brokers

Correction

In rule document 05-1906 beginning on page 5923 the issue of Friday, February 4, 2005, make the following correction:

On page 5924, in the third column, in amendatory paragraph 3, the third line should read as follows, “Authority: 7 U.S.C. 6b, 6c, 6g, 6j and 12a, unless otherwise noted.”

[FR Doc. C5-1906 Filed 2-11-05; 8:45 am]

BILLING CODE 1505-01-D

SECURITIES AND EXCHANGE COMMISSION

[Release No. 34-51114; File No. SR-Phlx-2005-07]

Self-Regulatory Organizations; Philadelphia Stock Exchange, Inc.; Notice of Filing and Immediate Effectiveness of Proposed Rule Change and Amendment No. 1 Thereto Relating to the Extension of a Pilot Limiting Trade-Through Liability at the End of the Options Trading Session

January 31, 2005.

Correction

In notice document E5-467 beginning on page 6492 in the issue of Monday, February 7, 2005 make the following correction:

On page 6493, in the third column, in the first paragraph, in the last line, “ January 28, 2005” should read “February 28, 2005”.

[FR Doc. Z5-467 Filed 2-11-05; 8:45 am]

BILLING CODE 1505-01-D